DEPARTMENT OF ENERGY

Federal Energy Regulatory Commission

Combined Notice of Filings #1

Take notice that the Commission received the following electric corporate filings:

Docket Numbers: EC19-124-000.

Applicants: Wessington Wind Energy Center, LLC, Wessington Springs Wind, LLC, Wilton Wind II, LLC, Wilton Wind Energy II, LLC.

Description: Application for Authorization Under Section 203 of the Federal Power Act, et al. of Wessington Wind Energy Center, LLC, et al.

Filed Date: 8/22/19.

Accession Number: 20190822-5151.

Comments Due: 5 p.m. ET 9/12/19.

Docket Numbers: EC19-125-000.

Applicants: Brea Generation LLC, Brea Power II, LLC, Rhode Island Engine Genco, LLC, Rhode Island LFG Genco, LLC.

Description: Application for Authorization Under Section 203 of the Federal Power Act, et al. of Brea Generation LLC, et al.

Filed Date: 8/23/19.

Accession Number: 20190823-5062.

Comments Due: 5 p.m. ET 9/13/19.

Docket Numbers: EC19-126-000.

Applicants: Carville Energy LLC, Oneta Power, LLC, AMF Florence LLC.

Description: Application for Authorization Under Section 203 of the Federal Power Act, et al. of Carville Energy LLC, et al.

Filed Date: 8/23/19.

Accession Number: 20190823-5076.

Comments Due: 5 p.m. ET 9/13/19.

Docket Numbers: EC19-127-000.

Applicants: Birchwood Power Partners, L.P., Virginia Electric and Power Company.

Description: Joint Application for Authorization Under Section 203 of the Federal Power Act, et al. of Birchwood Power Partners, L.P., et al.

Filed Date: 8/23/19.

Accession Number: 20190823-5136.

Comments Due: 5 p.m. ET 9/13/19.

Take notice that the Commission received the following exempt wholesale generator filings:

Docket Numbers: EG19-169-000.

Applicants: SR Arlington II, LLC.

Description: Notice of Self-Certification of Exempt Wholesale Generator Status of SR Arlington II, LLC.

Filed Date: 8/16/19.

Accession Number: 20190816-5192.

Comments Due: 5 p.m. ET 9/6/19.

Docket Numbers: EG19-170-000.

Applicants: South Peak Wind LLC.

Description: Notice of Self-Certification of Exempt Wholesale Generator Status of South Peak Wind LLC.

Filed Date: 8/22/19.

Accession Number: 20190822-5183.

Comments Due: 5 p.m. ET 9/12/19.

Docket Numbers: EG19-171-000.

Applicants: PGR Lessee L, LLC.

Description: Self-Certification of Exempt Wholesale Generator Status of PGR Lessee L, LLC.

Filed Date: 8/23/19.

Accession Number: 20190823-5152.

Comments Due: 5 p.m. ET 9/13/19.

Take notice that the Commission received the following electric rate filings:

Docket Numbers: ER18-554-004.

Applicants: Carville Energy LLC.

Description: Compliance filing: Informational Filing Regarding Upstream Change in Control to be effective N/A.

Filed Date: 8/23/19.

Accession Number: 20190823-5065.

Comments Due: 5 p.m. ET 9/13/19.

Docket Numbers: ER19-455-003.

Applicants: Stoneray Power Partners, LLC.

Description: Compliance filing: Stoneray Revised Rate Schedule Compliance Filing Effective February 1 2019 to be effective 2/1/2019.

Filed Date: 8/22/19.

Accession Number: 20190822-5079.

Comments Due: 5 p.m. ET 9/12/19.

Docket Numbers: ER19-2677-000.

Applicants: Hampshire Council of Governments.

Description: Notice of Cancellation of Market-Based Rate Tariff of New Hampshire Council of Governments.

Filed Date: 8/22/19.

Accession Number: 20190823-0001.

Comments Due: 5 p.m. ET 9/12/19.

Docket Numbers: ER19-2678-000.

Applicants: American Transmission Systems, Incorporated, PJM Interconnection, L.L.C.

Description: § 205(d) Rate Filing: ATSI submits 6 ECSAs, Service Agreement Nos. 5165, 5338, 5340, 5391, et al to be effective 10/22/2019.

Filed Date: 8/23/19.

Accession Number: 20190823-5030.

Comments Due: 5 p.m. ET 9/13/19.

Docket Numbers: ER19-2679-000.

Applicants: California Independent System Operator Corporation.

Description: § 205(d) Rate Filing: 2019-08-23 2018 Interconnection Process Enhancements Tariff Amendment to be effective 10/23/2019.

Filed Date: 8/23/19.

Accession Number: 20190823-5055.

Comments Due: 5 p.m. ET 9/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2019.
Kimberly D. Bose,
Secretary.

[FR Doc. 2019-18674 Filed 8-28-19; 8:45 am]

BILLING CODE 6717-01-P